DEPARTMENT OF ENERGY

Federal Energy Regulatory Commission

[Project No. 12796-004]

City of Wadsworth, Ohio; Notice of Teleconference

The U.S. Fish and Wildlife Service's Ohio Ecological Services Field Office and West Virginia Field Office (FWS) requested a teleconference regarding Commission staff's March 11, 2015, request for formal consultation on the pink mucket pearly mussel (Lampsilis abrupta), eastern fanshell mussel (Cyprogenia stegaria), snuffbox mussel (Epioblasma triquetra), sheepnose mussel (Plethobasus cyphyus), and Indiana bat (Myotis sodalis) for the proposed R.C. Byrd Hydroelectric Project. The FWS requested a discussion of: (1) The Commission's hydropower licensing process; (2) the recent action listing the northern long-eared bat (Myotis septentrionalis) as a threatened species under the Endangered Species Act; (3) FWS' information needs to complete section 7 consultation for listed bats and mussels; and (4) possible solutions to gathering the information needed by FWS.

The teleconference will be held on Monday, April 20, 2015 at 1:00 p.m. (Eastern Daylight Time). All local, state, and federal agencies, Indian tribes, and other interested parties are invited to participate by phone. Please call Andy Bernick at (202) 502-8660 by Monday, April 13, 2015, to RSVP and to receive specific instructions on how to participate.

Dated: April 3, 2015.
Nathaniel J. Davis, Sr.,
Deputy Secretary.

[FR Doc. 2015-08229 Filed 4-9-15; 8:45 am]

BILLING CODE 6717-01-P